DEPARTMENT OF THE TREASURY

Submission for OMB Review; Comment Request

AGENCY: Department of the Treasury.

ACTION: Notice.

The Department of the Treasury will submit the following information collection requests to the Office of Management and Budget (OMB) for review and clearance in accordance with the Paperwork Reduction Act of 1995, Public Law 104-13, on or after the date of publication of this notice.

DATES: Comments should be received on or before September 30, 2015 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8140, Washington, DC 20220, or email at PRA@treasury.gov.

FOR FURTHER INFORMATION CONTACT: Copies of the submission may be obtained by emailing PRA@treasury.gov, or viewing the entire information collection request at www.reginfo.gov.

SUPPLEMENTARY INFORMATION:

Alcohol and Tobacco Tax and Trade Bureau (TTB)

OMB Number: 1513-0083.

Type of Review: Revision of a currently approved collection.

Title: Excise Tax Return.

Form: TTB F 5000.24.

Abstract: Under 26 U.S.C. 5061(a) and 5703(b), the Federal alcohol and tobacco excise tax is collected on the basis of a return. Businesses, other than those in Puerto Rico, report their Federal excise tax liability on those products on TTB F 5000.24, Excise Tax Return. TTB uses the information provided on the return form to establish the taxpayer's identity, the amount and type of taxes due, and the amount of payments made.

Affected Public: Private Sector: Businesses or other for-profits.

Estimated Annual Burden Hours: 127,514.

OMB Number: 1513-0103.

Type of Review: Revision of a currently approved collection.

Title: Tobacco Bond—Collateral, Tobacco Bond—Surety, and Tobacco Bond.

Form: TTB F 5200.25; 5200.26, and 5200.29

Abstract: TTB requires a corporate surety bond or a collateral bond to ensure payment of the excise tax on tobacco products and cigarette paper and tubes removed from a factory or warehouse. TTB uses these forms to identify the agreement to pay and the person from which TTB will attempt to collect any unpaid excise tax. Manufactures of tobacco products or cigarette papers and tubes, export warehouse proprietors, and corporate sureties, if applicable, are the respondents to this information collection.

Affected Public: Private Sector: Businesses or other for-profits.

Estimated Annual Burden Hours: 367.

OMB Number: 1513-0122.

Type of Review: Revision of a currently approved collection.

Title: Formula and Process for Domestic and Imported Alcohol Beverages.

Form: TTB F 5100.51.

Abstract: This form is used by industry members to obtain approval of formulas for alcohol beverage products where the TTB regulations require such approval. TTB uses the information provided on TTB F 5100.51 to ensure appropriate classification of distilled spirits, wine, and malt beverages for labeling and taxation purposes. The form collects information regarding the person filing, the type of product made, the ingredients used, and the manufacturing process.

Affected Public: Private Sector: Businesses or other for-profits.

Estimated Annual Burden Hours: 7,254.

Dated: August 25, 2015.
Dawn D. Wolfgang,
Treasury PRA Clearance Officer.

[FR Doc. 2015-21433 Filed 8-28-15; 8:45 am]

BILLING CODE 4810-31-P